OFFICE OF MANAGEMENT AND BUDGET

Request for Information: Deregulation

AGENCY: Executive Office of the President, Office of Management and Budget (OMB).

ACTION: Notice of request for information (RFI).

SUMMARY: OMB solicits ideas for deregulation from across the country. Commenters should identify rules to be rescinded and provide detailed reasons for their rescission. OMB invites comments about any and all regulations currently in effect.

DATES: Consideration will be given to written comments received by May 12, 2025.

ADDRESSES: Please submit comments via https://www.regulations.gov/ and follow the instructions for submitting comments. Alternatively, you can submit your comment via the Submit Your Deregulatory Recommendations portal on the regulations.gov homepage. OMB will not respond to or address individual submissions.

Submission of comments in response to this RFI is voluntary. Comments may be used to inform deregulation efforts. Please note that submissions received in response to this notice may be posted on https://www.regulations.gov/ or otherwise released in their entirety, including any personal information, business confidential information, or other sensitive information provided by the commenter. Do not include in your submissions any copyrighted material; information of a confidential nature, such as personal or proprietary information; or any information you would not like to be made publicly available.

FOR FURTHER INFORMATION CONTACT: Kelsi Feltz, Office of Information and Regulatory Affairs, 725 17th Street NW, Washington, DC 20503, Mailbox: MBX.OMB.DeregIdeas@omb.eop.gov, telephone number: (202) 395-8524. Because of delays in the receipt of regular mail related to security screening, respondents are encouraged to use the portal or electronic communications.

SUPPLEMENTARY INFORMATION: Americans are the most inventive, hardworking, and industrious people in the world. For too long, American dynamism and creativity have been stunted by onerous and unnecessary regulations. With this document, OMB seeks proposals to rescind or replace regulations that stifle American businesses and American ingenuity. We seek comment from the public on regulations that are unnecessary, unlawful, unduly burdensome, or unsound. Comments should address the background of the rule and the reasons for the proposed rescission, with particular attention to regulations that are inconsistent with statutory text or the Constitution, where costs exceed benefits, where the regulation is outdated or unnecessary, or where regulation is burdening American businesses in unforeseen ways.

Russell T. Vought,
Director.

[FR Doc. 2025-06316 Filed 4-9-25; 1:30 pm]

BILLING CODE 3110-01-P